FEDERAL ACCOUNTING STANDARDS ADVISORY BOARD

New Exposure Draft Reclassification of Stewardship Responsibilities and Eliminating the Current Services Assessment

AGENCY: Federal Accounting Standards Advisory Board.

ACTION: Notice of new exposure draft reclassification of stewardship responsibilities and eliminating the current services assessment.

Board Action: Pursuant to the Federal Advisory Committee Act (Pub. L. 92-463), as amended, and the FASAB Rules Of Procedure, as amended in October, 1999, notice is hereby given that the Federal Accounting Standards Advisory Board has published a new exposure draft, Reclassification of Stewardship Responsibilities and Eliminating the Current Assessment.

A summary of the proposed Statement follows: On February 19, 2002, the Federal Accounting Standards Advisory Board (FASAB) released for public comment an exposure draft (ED) to amend Statement of Federal Financial Accounting Standards (SFFAS) 5, Accounting for Liabilities of the Federal Government; Statement of Federal Financial Accounting Standards (SFFAS) 8, Supplementary Stewardship Reporting, and Statement of Federal Financial Accounting Standards (SFFAS) 17, Accounting for Social Insurance. The amendment proposes that risk assumed information and the CSA be reclassified as required supplementary information (RSI).

Because it is deemed essential to fair presentation, Social Insurance information would be reclassified as an integral part of the basic financial statements. The exposure draft includes the Alternative Views of one Board member. The exposure draft also proposes that the requirement to report the CSA be eliminated after FY 2003, because improved timeliness in issuing audited financial statements should mean that these statements will be available before the President's Budget is published. The President's Budget is the source of the CSA. The exposure draft, entitled Reclassification of Stewardship Responsibilities and Eliminating the Current Services Assessment, Amending Statement of Federal Financial Accounting Standards (SFFAS) 5, Accounting for Liabilities of the Federal Government, Statement of Federal Financial Accounting Standards (SFFAS) 8, Supplementary Stewardship Reporting, and Statement of Federal Financial Accounting Standards (SFFAS) 17, Accounting for Social Insurance, will be out for comment until May 19, 2002.

The exposure draft will soon be mailed to FASAB's mailing list of subscribers. Additionally, it is available on FASAB's home page http://www.fasab.gov/ Copies can be obtained by contacting FASAB at (202) 512-7350, or bramlettr@fasab.gov. Respondents are encouraged to comment on any part of the exposure draft.

Written comments are requested by May 19, 2002, and should be sent to: Wendy M. Comes, Executive Director, Federal Accounting Standards Advisory Board, 441 G Street, NW., Suite 6814, Mail Stop 6K17V, Washington, DC 20548.

FOR FURTHER INFORMATION CONTACT: Wendy Comes, Executive Director, 441 G St., NW., Room 6814, Washington, DC 20548, or call (202) 512-7350.

Authority: Federal Advisory Committee Act. Pub. L. 92-463.

Dated: February 20, 2002.
Wendy M. Comes,
Executive Director.

[FR Doc. 02-4535 Filed 2-25-02; 8:45 am]

BILLING CODE 1610-01-M